DEPARTMENT OF DEFENSE

Department of the Army

32 CFR Part 571

[Docket No. USA-2018-HQ-0012]

RIN 0702-AA78

Recruiting and Enlistments

AGENCY: Department of the Army, DoD.

ACTION: Final rule.

SUMMARY: This final rule removes the Army's regulation governing recruiting and enlistments. This part does not impose obligations on members of the public that are not already imposed by statute. The language in this part already exists elsewhere in the Code of Federal Regulations, and thus is duplicative.

DATES: This final rule is effective on September 19, 2018.

FOR FURTHER INFORMATION CONTACT: Mr. Alphonsa Green, (703) 695-7490.

SUPPLEMENTARY INFORMATION: It has been determined that publication of this CFR part removal for public comment is impracticable, unnecessary, and contrary to public interest since it is based on removing content from the CFR which already exists at 32 CFR part 66 and for which public comment was taken.

Army internal guidance governing recruiting and enlistments will continue to be published in AR 601-210, Regular Army and Reserve Components Enlistment Program, and is available at http://www.apd.army.mil/Search/ePubsSearch/ePubsSearchForm.aspx?x=AR.

This rule is not significant under Executive Order (E.O.) 12866, “Regulatory Planning and Review,” therefore, the requirements of E.O. 13771, “Reducing Regulation and Controlling Regulatory Costs” do not apply.

List of Subjects in 32 CFR Part 571

Recruiting and enlistment eligibility.

PART 571—[REMOVED]

Accordingly, by the authority of 5 U.S.C. 301, 32 CFR part 571 is removed.

Dated: September 13, 2018.
Brenda S. Bowen,
Army Federal Register Liaison Officer.

[FR Doc. 2018-20365 Filed 9-18-18; 8:45 am]

BILLING CODE 5001-03-P